SMALL BUSINESS ADMINISTRATION

[Disaster Declaration #15391 and #15392; New York Disaster Number NY-00179]

Presidential Declaration Amendment of a Major Disaster for Public Assistance Only for the State of New York

AGENCY: U.S. Small Business Administration.

ACTION: Amendment 1.

SUMMARY: This is an amendment of the Presidential declaration of a major disaster for Public Assistance Only for the State of New York (FEMA-4348-DR), dated 11/14/2017.

Incident: Flooding.

Incident Period: 05/02/2017 through 08/06/2017.

DATES: Issued on 01/19/2018.

Physical Loan Application Deadline Date: 01/16/2018.

Economic Injury (EIDL) Loan Application Deadline Date: 08/14/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of New York, dated 11/14/2017, is hereby amended to include the following areas as adversely affected by the disaster.

Primary Counties: Cayuga, Monroe

All other information in the original declaration remains unchanged.

(Catalog of Federal Domestic Assistance Number 59008)

James E. Rivera,
Associate Administrator for Disaster Assistance.

[FR Doc. 2018-01516 Filed 1-26-18; 8:45 am]

BILLING CODE 8025-01-P